DEPARTMENT OF COMMERCE

Patent and Trademark Office

Patent Cooperation Treaty

ACTION: Proposed collection; comment request.

SUMMARY: The United States Patent and Trademark Office (USPTO), as part of its continuing effort to reduce paperwork and respondent burden, invites the general public and other Federal agencies to comment on the continuing information collection, as required by the Paperwork Reduction Act of 1995, Public Act of 1996, Public Law 104-13 (44 U.S.C 3506(c)(2)(A)).

DATES: Written comments must be submitted on or before June 20, 2016.

ADDRESSES: You may submit comments by any of the following methods:

• Email: InformationCollection@upsto.gov. Include “0651-021 comment” in the subject line of the message.

• Federal Register Portal: http://www.regulations.gov.

• Mail: Marcie Lovett, Records Management Division Director, Office of the Chief Information Officer; United States Patent and Trademark Office; P.O. Box 1450, Alexandria, VA 22313-1450

FOR FURTHER INFORMATION CONTACT: Requests for additional information should be directed to Rafael Bacares, Senior Legal Advisor, Office of Patent Legal Administration, United States Patent and Trademark Office, P.O. Box 1450, Alexandria VA 22313-1450; by telephone at 571-272-3276; or by email at Rafael.Bacares@uspto.gov with “Paperwork” in the subject line. Additional information about this collection is also available at http://www.reginfo.gov under “Information Collection Review.”

SUPPLEMENTARY INFORMATION:

I. Abstract

This collection of information is required by the provisions of the Patent Cooperation Treaty (PCT), which became operational in June 1978 and is administered by the International Bureau (IB) of the World Intellectual Property Organization (WIPO) in Geneva, Switzerland. The provisions of the PCT have been implemented by the United States in part IV of title 35 of the U.S. Code (chapters 35-37) and subpart C of title 37 of the Code of Federal Regulations (37 CFR 1.401-1.499). The purpose of the PCT is to provide a standardized filing format and procedure that allows an applicant to seek protection for an invention in several countries by filing one international application in one location, in one language, and paying one initial set of fees.

The information in this collection is used by the public to submit a patent application under the PCT and by the United States Patent and Trademark Office (USPTO) to fulfill its obligation to process, search, and examine the application as directed by the treaty. The USPTO acts as the United States Receiving Office (RO/US) for international applications filed by residents and nationals of the United States. These applicants send most of the correspondence directly to the USPTO, but they may also file certain documents directly with the IB. The USPTO serves as an International Searching Authority (ISA) to perform searches and issue international search reports (ISR) and the written opinions on international applications. The USPTO also issues international preliminary reports on patentability (IPRP Chapter II) when acting as an International Preliminary Examining Authority (IPEA).

II. Method of Collection

By mail, hand delivery, or electronic submission to the USPTO.

III. Data

OMB Number: 0651-0021.

IC Instruments and Forms: The individual instruments in this collection, as well as their associated forms, are listed in the table below.

Type of Review: Revision of a Previously Existing Information Collection.

Affected Public: Individuals or households; business or other for-profits; and not-for-profit institutions.

Estimated Number of Respondents: 423,970 responses per year.

Estimated Time per Response: The USPTO estimates that it will take the public between 0.25 hours (15 minutes) and 8 hours to gather the necessary information, prepare the appropriate form or documents, and submit the information to the USPTO.

Estimated Total Annual Respondent Burden Hours: 364,830 hours.

Estimated Total Annual Respondent (Hourly) Cost Burden: $149,380,300. The USPTO expects that attorneys will complete these applications. The current professional hourly rate for attorneys is $410.00. Using this hourly rate, the USPTO estimates that the total respondent cost burden for this collection is $149,380,300 per year.

IC No. | Item | Estimated time for response (hr) | Estimated annual responses | Estimated annual burden hours | Rate ($/hr) | Total cost burden ($/hr)
|  | (a) | (b) | (a) × (b) = (c) | (d) | (c) × (d) = (e)
1 | Request and Fee Calculation Sheet (Annex and Notes) (PCT/RO/101) | 1 | 56,480 | 56,480 | $410.00 | $23,156,800.00
2 | Description/claims/drawings/abstracts | 3 | 56,480 | 169,480 | 410.00 | 69,470,400.00
3 | Application Data Sheet (35 U.S.C. 371 applications) | 0.38 (23 minutes) | 91,477 | 34,761 | 410.00 | 14,252,010.00
4 | Transmittal Letter to the United States Receiving Office (RO/US) (PTO-1382) | 0.25 (15 minutes) | 50,832 | 12,708 | 410.00 | 5,210,280.00
5 | Transmittal Letter to the United States Designated/Elected Office (DO/EO/US) Concerning a Submission Under 35 U.S.C. 371 (PTO-1390) | 0.25 (15 minutes) | 85,387 | 21,347 | 410.00 | 8,752,270.00
6 | PCT/Model of Power of Attorney | 0.25 (15 minutes) | 2,824 | 706 | 410.00 | 289,460.00
7 | PCT/Model of General Power of Attorney | 0.25 (15 minutes) | 282 | 71 | 410.00 | 29,110.00
8 | Indications Relating to a Deposited Microorganism (PCT/RO/134) | 0.25 15 minutes) | 1 | 0 | 410.00 | 0.00
9 | Response to invitation to correct defects | 2 | 15,117 | 30,234 | 410.00 | 12,395,940.00
10 | Request for rectification of obvious errors | 0.50 (30 minutes) | 867 | 434 | 410.00 | 177,940.00
11 | Demand and Fee Calculation Sheet (Annex and Notes) (PCT/IPEA/401) | 1 | 1,406 | 1,406 | 410.00 | 576,460.00
12 | Amendments (Article 34) | 1 | 1,406 | 1,406 | 410.00 | 576,460.00
13 | Fee Authorization | 0.25 (15 minutes) | 50,832 | 12,708 | 410.00 | 5,210,280.00
14 | Requests to transmit copies of international application | 0.25 (15 minutes) | 1,081 | 270 | 410.00 | 110,700.00
15 | Withdrawal of international application (PCT/IB/372) | 0.25 (15 minutes) | 1,580 | 395 | 410.00 | 161,950.00
16 | Translations | 2 | 2,298 | 4,596 | 410.00 | 1,884,360.00
17 | Petition for Revival of an International Application for Patent Designating the U.S. Abandoned Unintentionally Under 37 CFR 1.137(a) (PTO/SB/64/PCT) | 1 | 887 | 887 | 410.00 | 363,670.00
18 | Petitions to the Commissioner for international applications | 4 | 133 | 532 | 410.00 | 218,120.00
19 | Petitions to the Commissioner in national stage examination | 4 | 3,191 | 12,764 | 410.00 | 5,233,240.00
20 | Acceptance of an unintentionally delayed claim for priority (37 CFR 1.78(a)(3)) | 2 | 542 | 1,084 | 410.00 | 444,440.00
21 | Request for the restoration of the right of priority | 3 | 867 | 2,601 | 410.00 | 1,066,410.00
Totals |  |  | 423,970 | 364,830 |  | 149,580,300.00

Estimated Total Annual (Non-hour) Respondent Cost Burden: $305,509,626.10. This collection has annual (non-hour) costs in the form of translations, drawings, filing fees, and postage costs.

Translations and Drawings

Under the terms of the PCT, the USPTO may require documents submitted for a PCT application to be translated into English when necessary. This requirement may carry additional costs for the applicant to contract for a translation of the documents in questions. The USPTO believes that the average length of the document to be translated will be 10 pages and that it will cost approximately $150 per page for the translation, for an average translation cost of $1,500 per document. The USPTO estimates that it receives approximately 21,180 English translations annually, for a total of $31,770,000 per year for English translations of non-English language documents for PCT applications.

Applicants may also incur costs for drawings that are submitted as part of PCT applications. Some applicants may produce their own drawings, while others may contract out the work to various patent illustration firms. For the purpose of estimating burden for this collection, the USPTO will consider all applicants to have their drawings prepared by these firms. The USPTO estimates that drawings may cost an average of $58 per sheet to produce and that on average 11 sheets of drawings are submitted per application, for an average total cost of $638 to produce a set of drawings for an application. The USPTO expects that approximately 91% of the estimated 48,285 applications per year will have drawings filed with them, for a total of 43,939 sets of drawings with a total cost of $28,033,082 per year.

Filing Fee

The estimated filing fees for this collection are calculated in the accompanying table.

IC No. | Item | Responses | Fees | Total fee amount
|  | (a) | (b) | (a) × (b) = (c)
| Request and Fee Calculation Sheet (Annex and Notes) (PCT/RO/101) | 56,480 | $1,254.00 | $70,825,920.00
| Demand and Fee Calculation Sheet (Annex and Notes) (PCT/IPEA/401) | 1,406 | 213.00 | 299,478.00
| Acceptance of an unintentionally delayed claim for priority, or for filing a request for the restoration of the right of priority | 1,409 | 2,000.00 | 2,818,000.00
| Basic National Stage Fee (Large entity) | 65,948 | 300.00 | 19,784,400.00
| Basic National Stage Fee (Small entity) | 19,893 | 150.00 | 2,983,950.00
| Basic National Stage Fee (Micro entity) | 1,197 | 75.00 | 89,775.00
| National Stage Search Fee—U.S. was the ISA or IPEA and all claims satisfy PCT Article 33(1)-(4) | 452 | 0 | 0.00
| National Stage Search Fee—U.S. was the ISA (Large entity) | 2,728 | 140.00 | 381,920.00
| National Stage Search Fee—U.S. was the ISA (Small entity) | 2,918 | 70.00 | 204,260.00
| National Stage Search Fee—U.S. was the ISA (Micro entity) | 206 | 35.00 | 7,210.00
| National Stage Search Fee—search report prepared and provided to USPTO (Large entity) | 60,196 | 520.00 | 31,301,920.00
| National Stage Search Fee—search report prepared and provided to USPTO (Small entity) | 15,917 | 260.00 | 4,138,420.00
| National Stage Search Fee—search report prepared and provided to USPTO (Micro entity) | 866 | 130.00 | 112,580.00
| National Stage Examination Fee—U.S. was the ISA or IPEA and all claims satisfy PCT Article 33(1)-(4) | 452 | 0 | 0.00
| Transmitting application to Intl. Bureau to act as receiving office (Large entity) | 313 | 240.00 | 75,120.00
| Transmitting application to Intl. Bureau to act as receiving office (Small entity) | 191 | 120.00 | 22,920.00
| Transmitting application to Intl. Bureau to act as receiving office (Micro entity) | 21 | 60.00 | 1,260.00
| National Stage Search Fee—all other situations (Large entity) | 2,864 | 660.00 | 1,890,240.00
| National Stage Search Fee—all other situations (Small entity) | 908 | 330.00 | 299,640.00
| National Stage Search Fee—all other situations (Micro entity) | 118 | 165.00 | 19,470
| National Stage Examination Fee—all other situations (Large entity) | 65,701 | 760.00 | 49,932,760.00
| National Stage Examination Fee—all other situations (Small entity) | 19,653 | 380.00 | 7,468,140.00
| National Stage Examination Fee—all other situations (Micro entity) | 1,171 | 190.00 | 222,490.00
| Search fee, examination fee or oath of declaration after thirty months from priority date (Large entity) | 23,193 | 140.00 | 3,247,020.00
| Search fee, examination fee or oath of declaration after thirty months from priority date (Small entity) | 10,149 | 70.00 | 710,430.00
| Search fee, examination fee or oath of declaration after thirty months from priority date (Micro entity) | 304 | 35.00 | 10,640.00
| English translation after thirty months from priority date (Large entity) | 1,467 | 140.00 | 205,380.00
| English translation after thirty months from priority date (Small entity) | 782 | 70.00 | 54,740.00
| English translation after thirty months from priority date (Micro entity) | 49 | 35.00 | 1,715.00
| Transmittal fee (Large entity) | 39,370 | 240.00 | 9,448,800.00
| Transmittal fee (Small entity) | 16,017 | 120.00 | 1,922,040.00
| Transmittal fee (Micro entity) | 1,240 | 60.00 | 74,400.00
| Search fee—regardless of whether there is a corresponding application (see 35 U.S.C. 361(d) and PCT Rule 16) (Large entity) | 8,227 | 2,080.00 | 17,112,160.00
| Search fee—regardless of whether there is a corresponding application (see 35 U.S.C. 361(d) and PCT Rule 16) (Small entity) | 10,929 | 1,040.00 | 11,366,160.00
| Search fee—regardless of whether there is a corresponding application (see 35 U.S.C. 361(d) and PCT Rule 16) (Micro entity) | 1,129 | 520.00 | 587,080.00
| Supplemental search fee when required, per additional invention | 1 | 2,080.00 | 2,080.00
| Preliminary examination fee—U.S. was the ISA (Large entity) | 346 | 600.00 | 207,600.00
| Preliminary examination fee—U.S. was the ISA (Small entity) | 257 | 300.00 | 77,100.00
| Preliminary examination fee—U.S. was the ISA (Micro entity) | 54 | 150.00 | 8,100.00
| Preliminary examination fee—U.S. was not the ISA (Large entity) | 143 | 760.00 | 108,680.00
| Preliminary examination fee—U.S. was not the ISA (Small entity) | 31 | 380.00 | 11,780.00
| Preliminary examination fee—U.S. was not the ISA (Micro entity) | 1 | 190.00 | 190.00
| Supplemental examination fee per additional invention (Large entity) | 0 | 600.00 | 0.00
| Supplemental examination fee per additional invention (Small entity) | 4 | 300.00 | 1,200.00
| Supplemental examination fee per additional invention (Micro entity) | 0 | 150.00 | 0.00
| National Stage Application Size Fee—for each additional 50 sheets that exceed 100 sheets (Large entity) | 2,325 | 400.00 | 930,000.00
| National Stage Application Size Fee—for each additional 50 sheets that exceed 100 sheets (Small entity) | 1,181 | 200.00 | 236,200.00
| National Stage Application Size Fee—for each additional 50 sheets that exceed 100 sheets (Micro entity) | 36 | 100.00 | 3,600.00
| [PCT National Stage] Claims—extra independent (over three) (Large entity) | 7,565 | 460.00 | 3,479,900.00
| [PCT National Stage] Claims—extra independent (over three) (Small entity) | 2,650 | 230.00 | 609,500.00
| [PCT National Stage] Claims—extra independent (over three) (Micro entity) | 122 | 115.00 | 14,030.00
| [PCT National Stage] Claims—extra total (over 20) (Large entity) | 10,797 | 100.00 | 1,079,700.00
| [PCT National Stage] Claims—extra total (over 20) (Small entity) | 5,574 | 50.00 | 278,700.00
| [PCT National Stage] Claims—extra total (over 20) (Micro entity) | 241 | 25.00 | 60,250.00
| [PCT National Stage] Claim—multiple dependent (Large entity) | 986 | 820.00 | 808,520.00
| [PCT National Stage] Claim—multiple dependent (Small entity) | 522 | 410.00 | 214,020.00
| [PCT National Stage] Claim—multiple dependent (Large entity) | 42 | 205.00 | 8,610.00
Totals |  | 466,522 |  | 245,700,473.00

Postage Costs

Customers may incur postage costs when submitting the information in this collection to the USPTO by mail. The USPTO estimates that the average first-class postage cost for a mailed submission will be 49 cents and that up to 12,390 submissions (approximately 2% of responses) will be mailed to the USPTO per year, for a total estimated postage cost of $6,071.10 per year.

The total annual (non-hour) respondent cost burden for this collection associated with translations, drawings, fees, and postage is estimated to be $310,789,891.10 per year.

IV. Request for Comments

Comments are invited on:

(a) Whether the proposed collection of information is necessary for the proper performance of the functions of the agency, including whether the information shall have practical utility;

(b) The accuracy of the agency's estimate of the burden (including hours and cost) of the proposed collection of information;

(c) Ways to enhance the quality, utility, and clarity of the information to be collected; and

(d) Ways to minimize the burden of the collection of information on respondents, e.g., the use of automated collection techniques or other forms of information technology.

Comments submitted in in response to this notice will be summarized or included in the request for OMB approval of this information collection; they also will become a matter of public record.

Dated: April 13, 2016.
Joseph Rivera,
Office of Information Management Services Deputy Director, USPTO, Office of the Chief Information Officer.

[FR Doc. 2016-09037 Filed 4-18-16; 8:45 am]

BILLING CODE 3510-16-P